DEPARTMENT OF COMMERCE

National Oceanic and Atmospheric Administration

[Docket No. 060824225-6225-01; I.D. 021207A]

Fisheries in the Western Pacific; Western Pacific Crustacean Fisheries; 2007 Harvest Guideline

AGENCY: National Marine Fisheries Service (NMFS), National Oceanic and Atmospheric Administration (NOAA), Commerce.

ACTION: Notification of harvest guideline for crustaceans.

SUMMARY: NMFS announces that the annual harvest guideline for the commercial lobster fishery in the Northwestern Hawaiian Islands (NWHI) for calendar year 2007 is established at zero lobsters.

FOR FURTHER INFORMATION CONTACT: Bob Harman, NMFS Pacific Islands Region, 808-944-2271.

SUPPLEMENTARY INFORMATION: The NWHI commercial lobster fishery is managed under the Fishery Management Plan for the Crustacean Fisheries of the Western Pacific Region (Crustaceans FMP). The regulations at 50 CFR 665.50(b)(2) require NMFS to publish an annual harvest guideline for lobster Permit Area 1, comprised of Federal waters around the NWHI.

The NWHI commercial lobster fishery, which operates almost exclusively within 50 nm of the NWHI archipelago, has been closed since 2000, initially as a precautionary action to prevent overfishing of spiny and slipper lobster resources while NMFS conducted biological research and assessed the status of the lobster stocks. In 2001, the U.S. District Court for the District of Hawaii ordered the fishery to remain closed until an environmental impact statement and a biological opinion were prepared for the Crustaceans FMP. Also in December 2000 and January 2001, the NWHI Coral Reef Ecosystem Reserve (Reserve) was established by Executive Order which, among other provisions, prohibited commercial lobster fishing in the Reserve. The boundary of the Reserve extended to a distance of 50 nm seaward from the islands of the NWHI. On June 15, 2006, Presidential Proclamation No. 8031 established the NWHI Marine National Monument. The Proclamation requires that any commercial lobster fishing permit shall be subject to a zero annual harvest limit. The Proclamation also prohibited unpermitted removal, moving, taking, harvesting, possessing, injuring, disturbing, or damaging; or attempting to remove, move, take, harvest, possess, injure, disturb, or damage any living or nonliving monument resource. Subsequently, NOAA and the U.S. Fish and Wildlife Service jointly promulgated regulations implementing the Proclamation, including these measures (71 FR 51134, August 29, 2006), to be codified at 50 CFR part 404.

Consistent with the regulatory provisions that establish the unpermitted removal of monument resources and zero annual harvest guideline (50 CFR 404.7 and 404.10(a), respectively), NMFS establishes the harvest guideline at zero lobsters for the NWHI commercial lobster fishery for calendar year 2007; thus, no harvest of NWHI lobster resources is allowed.

Authority: 16 U.S.C. 1801 et seq.

Dated: February 16, 2007.
James P. Burgess,
Acting Director, Office of Sustainable Fisheries, National Marine Fisheries Service.

[FR Doc. E7-3147 Filed 2-22-07; 8:45 am]

BILLING CODE 3510-22-S